DEPARTMENT OF ENERGY

Federal Energy Regulatory Commission

[Project No. 13351-000]

Marseilles Land and Water Company; Notice of Application Accepted for Filing and Soliciting Motions To Intervene and Protests

June 11, 2009.

Take notice that the following hydroelectric application has been filed with the Commission and is available for public inspection.

a. Type of Application: Major license.

b. Project No.: P-13351-000.

c. Date filed: December 30, 2008.

d. Applicant: Marseilles Land and Water Company.

e. Name of Project: Marseilles Lock and Dam Project.

f. Location: On the Illinois River, in the town of Marseilles, La Salle County, Illinois. This project would not occupy any Federal lands.

g. Filed Pursuant to: Federal Power Act, 16 U.S.C. 791(a)-825(r).

h. Applicant Contact: Lee W. Mueller, Architect and Vice President, Marseilles Land & Water Company, 4132 S. Rainbow Blvd., #247, Las Vegas, NV 89103, (702) 367-7302.

i. FERC Contact: Steve Kartalia, Stephen.Kartalia@ferc.gov, (202) 502-6131.

j. Deadline for filing motions to intervene and protests: 60 days from the issuance date of this notice.

All documents (original and eight copies) should be filed with: Kimberly D. Bose, Secretary, Federal Energy Regulatory Commission, 888 First Street, NE., Washington, DC 20426.

The Commission's Rules of Practice and Procedures require all intervenors filing documents with the Commission to serve a copy of that document on each person on the official service list for the project. Further, if an intervenor files comments or documents with the Commission relating to the merits of an issue that may affect the responsibilities of a particular resource agency, they must also serve a copy of the document on that resource agency.

Motions to intervene and protests may be filed electronically via the Internet in lieu of paper. The Commission strongly encourages electronic filings. See 18 CFR 385.2001(a)(1)(iii) and the instructions on the Commission's Web site (http://www.ferc.gov/docs-filing/ferconline.asp) under the “efiling” link. For a simpler method of submitting text only comments, click on “Quick Comment.”

k. This application has been accepted for filing, but is not ready for environmental analysis at this time.

l. Project Description: The Marseilles Lock and Dam Project would utilize the head created by the existing 24-foot-high Army Corps of Engineers (Corps) Marseilles Lock and Dam and two existing Corps headgate structures and would consist of: (1) The existing north and south headraces in which a portion of the south headrace would be filled in and joined to the existing north headrace which would be deepened to accommodate the flow from both headraces leading to; (2) a new intake structure and forebay leading to; (3) a new powerhouse containing four generating units with a total installed capacity of 10.26 megawatts (MW); (4) a new tailrace discharging water back to the Illinois River; (5) a new 400-foot-long underground transmission line; and (6) appurtenant facilities.

The project would operate in a run-of-river mode.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

n. Competing development applications, notices of intent to file such an application, and applications for preliminary permits will not be accepted in response to this notice.

Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Kimberly D. Bose,
Secretary.

[FR Doc. E9-14291 Filed 6-17-09; 8:45 am]

BILLING CODE 6717-01-P